DEPARTMENT OF COMMERCE

International Trade Administration

[A-557-815, A-549-830, A-552-816]

Welded Stainless Steel Pressure Pipe From Malaysia, Thailand, and the Socialist Republic of Vietnam: Final Results of Expedited First Sunset Reviews of Antidumping Duty Orders

AGENCY: Enforcement and Compliance, International Trade Administration, Department of Commerce.

SUMMARY: As a result of these sunset reviews, the Department of Commerce (Commerce) finds that revocation of the antidumping duty orders on welded stainless steel pressure pipe (WSSPP) from Malaysia, Thailand, and the Socialist Republic of Vietnam (Vietnam) would be likely to lead to continuation or recurrence of dumping, at the levels identified in the “Final Results of Sunset Reviews” section of this notice.

DATES: Applicable October 2, 2019.

FOR FURTHER INFORMATION CONTACT: Ariela Garvett or Magd Zalok, AD/CVD Operations, Office IV, Enforcement and Compliance, International Trade Administration, U.S. Department of Commerce, 1401 Constitution Avenue NW, Washington, DC 20230; telephone: (202) 482-3609 or (202) 482-4162, respectively.

SUPPLEMENTARY INFORMATION:

Background

On July 21, 2014, Commerce published in the Federal Register the notices of the antidumping duty orders on WSSPP from Malaysia, Thailand, and Vietnam.¹ On June 4, 2019, Commerce published the initiation of the first sunset reviews of the Orders, pursuant to section 751(c) of the Tariff Act of 1930, as amended (the Act).² Between June 13, 2019 and June, 18, 2019, Commerce received timely and complete notices of intent to participate in these sunset reviews from Bristol Metals, LLC, Felker Brothers Corporation, and Webco Industries, Inc. (collectively, domestic interested parties), within the deadline specified in 19 CFR 351.218(d)(1)(i).³ The domestic interested parties claimed interested party status under section 771(9)(C) of the Act as manufacturers in the United States of the domestic like product.⁴ Between July 1, 2019 and July 5, 2019, the domestic interested parties filed timely and adequate substantive responses, within the deadline specified in 19 CFR 351.218(d)(3)(i).⁵ Commerce did not receive substantive responses from any respondent interested party. As a result, pursuant to section 751(c)(3)(B) of the Act and 19 CFR 351.218(e)(1)(ii)(C)(2), Commerce conducted expedited (120-day) sunset reviews of the Orders.

¹ See Welded Stainless Pressure Pipe from Malaysia, Thailand, and the Socialist Republic of Vietnam: Antidumping Duty Orders, 79 FR 42289 (July 21, 2014) (Orders).

² See Initiation of Five-Year (Sunset) Reviews, 84 FR 25741 (June 4, 2019).

³ See Domestic Interested Parties' Letters, “Welded Stainless Steel Pressure Pipe from Malaysia: Notice of Intent to Participate,” dated June 13, 2019 (Malaysia Intent to Participate); “Welded Stainless Steel Pressure Pipe from Thailand: Notice of Intent to Participate,” dated June 13, 2019 (Thailand Intent to Participate); and “Welded Stainless Steel Pressure Pipe from Vietnam: Notice of Intent to Participate,” dated June 13, 2019 (Vietnam Intent to Participate). Also, Commerce received a timely and complete notice of intent to participate in these sunset reviews from domestic interested party Primus Pipe & Tube, Inc. (Primus). See Primus' Letter, “Welded Stainless Steel Pressure Pipe from Malaysia, Thailand, and the Socialist Republic of Vietnam: Notice of Intent to Participate,” dated June 18, 2019.

⁴ See Malaysia Intent to Participate at 2; see also Thailand Intent to Participate at 2; Vietnam Intent to Participate at 2; Primus Intent to Participate at 2.

⁵ See Domestic Interested Parties' Letter “Welded Stainless Steel Pressure Pipe from Malaysia: Substantive Response to Notice of Initiation,” dated July 1, 2019; see also Domestic Interested Parties' Letters, “Welded Stainless Steel Pressure Pipe from Thailand: Substantive Response to Notice of Initiation,” dated July 1, 2019; and “Welded Stainless Steel Pressure Pipe from Vietnam: Substantive Response to Notice of Initiation,” dated July 1, 2019. Also, domestic interested party Primus Pipe & Tube, Inc. (Primus), submitted a response, in which it agreed with the substantive responses of the other domestic interested parties. See Primus' Letter, “Welded Stainless Steel Pipe Sunset Review: 2nd Review for China AD/CVD; 1st Review for Vietnam, Thailand and Malaysia; Substantive Response to Notice of Initiation,” dated July 5, 2019.

Scope of the Orders

The merchandise covered by these orders are circular welded austenitic stainless pressure pipe not greater than 14 inches in outside diameter. For purposes of these orders, references to size are in nominal inches and include all products within tolerances allowed by pipe specifications. This merchandise includes, but is not limited to, the American Society for Testing and Materials (ASTM) A-312 or ASTM A-778 specifications, or comparable domestic or foreign specifications. ASTM A-358 products are only included when they are produced to meet ASTM A-312 or ASTM A-778 specifications, or comparable domestic or foreign specifications.

Excluded from the scope are: (1) Welded stainless mechanical tubing, meeting ASTM A-554 or comparable domestic or foreign specifications; (2) boiler, heat exchanger, superheater, refining furnace, feedwater heater, and condenser tubing, meeting ASTM A-249, ASTM A-688 or comparable domestic or foreign specifications; and (3) specialized tubing, meeting ASTM A269, ASTM A-270 or comparable domestic or foreign specifications.

The subject imports are normally classified in subheadings 7306.40.5005, 7306.40.5040, 7306.40.5062, 7306.40.5064, and 7306.40.5085 of the Harmonized Tariff Schedule of the United States (HTSUS). They may also enter under HTSUS subheadings 7306.40.1010, 7306.40.1015, 7306.40.5042, 7306.40.5044, 7306.40.5080, and 7306.40.5090. The HTSUS subheadings are provided for convenience and customs purposes only; the written description of the scope of these investigations is dispositive.

Analysis of Comments Received

A complete discussion of all issues raised in these sunset reviews, including the likelihood of continuation or recurrence of dumping in the event of revocation of the Orders and the magnitude of the margins likely to prevail if the Orders were to be revoked, is provided in the accompanying Issues and Decision Memorandum, which is hereby adopted by this notice.⁶ A list of the topics discussed in the Issues and Decision Memorandum is attached as an Appendix to this notice. The Issues and Decision Memorandum is a public document and is on file electronically via Enforcement and Compliance's Antidumping and Countervailing Duty Centralized Electronic Service System (ACCESS). ACCESS is available to registered users at http://access.trade.gov and to all parties in the Central Records Unit, room B8024 of the main Commerce building. In addition, a complete version of the Issues and Decision Memorandum can be accessed directly on the internet at http://enforcement.trade.gov/frn/. The signed Issues and Decision Memorandum and the electronic version of the Issues and Decision Memorandum are identical in content.

⁶ See Memorandum, “Issues and Decision Memorandum for the Expedited First Sunset Reviews of the Antidumping Duty Orders on Welded Stainless Steel Pressure Pipe from Malaysia, Thailand, and the Socialist Republic of Vietnam,” dated concurrently with, and hereby adopted by, this notice (Issues and Decision Memorandum).

Final Results of Sunset Reviews

Pursuant to sections 751(c)(1) and 752(c)(1) and (3) of the Act, Commerce determines that revocation of the Orders would be likely to lead to continuation or recurrence of dumping, and that the magnitude of the dumping margins likely to prevail would be weighted-average margins up to 167.11 percent for Malaysia, 24.01 percent for Thailand, and 16.25 percent for Vietnam.

Notification Regarding Administrative Protective Orders

This notice also serves as the only reminder to parties subject to administrative protective order (APO) of their responsibility concerning the return or destruction of proprietary information disclosed under APO in accordance with 19 CFR 351.305. Timely notification of the return or destruction of APO materials, or conversion to judicial protective, orders is hereby requested. Failure to comply with the regulations and terms of an APO is a violation which is subject to sanction.

Notification to Interested Parties

We are issuing and publishing these final results and notice in accordance with sections 751(c), 752(c), and 777(i)(1) of the Act, and 19 CFR 351.218 and 19 CFR 351.221(c)(5)(ii).

Dated: September 25, 2019.
Jeffrey I. Kessler,
Assistant Secretary for Enforcement and Compliance.

Appendix

List of Topics Discussed in the Issues and Decision Memorandum

I. Summary

II. Background

III. Scope of the Orders

IV. History of the Orders

V. Legal Framework

VI. Discussion of the Issues

A. Likelihood of Continuation or Recurrence of Dumping

B. Magnitude of the Dumping Margins Likely to Prevail

VII. Final Results of Sunset Reviews

VIII. Recommendation

[FR Doc. 2019-21445 Filed 10-1-19; 8:45 am]

BILLING CODE 3510-DS-P